ENVIRONMENTAL PROTECTION AGENCY

[OPPT-2002-0032; FRL-7191-2]

Access to Confidential Business Information by Midwest Research Institute (MRI)

AGENCY: Environmental Protection Agency (EPA).

ACTION: Notice.

SUMMARY: EPA has authorized Midwest Research Institute (MRI) of Kansas City, MO access to information which has been submitted to EPA under sections 4 and 5 of the Toxic Substances Control Act (TSCA). Some of the information may be claimed or determined to be confidential business information (CBI).

DATES: Access to the confidential data submitted to EPA under sections 4 and 5 of TSCA occurred as a result of an approved waiver dated June 24, 2002.

FOR FURTHER INFORMATION CONTACT: By mail: Barbara A. Cunningham, Acting Director, Environmental Assistance Division (7408M), Office of Pollution Prevention and Toxics, Environmental Protection Agency, 1200 Pennsylvania Ave., NW., Washington, DC 20460; telephone number: (202) 554-1404; e-mail address: TSCA-Hotline@epamail.epa.gov.

SUPPLEMENTARY INFORMATION:

I. Does this Notice Apply to Me?

This action is directed to the public in general. This action may, however, be of interest to those persons who are or may be required to conduct testing of chemical substances under the Toxic Substances Control Act (TSCA). Since other entities may also be interested, the Agency has not attempted to describe all the specific entities that may be affected by this action. If you have any questions regarding the applicability of this action to a particular entity, consult the person listed under FOR FURTHER INFORMATION CONTACT.

II. How Can I Get Additional Information, Including Copies of this Document or Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

III. What Action is the Agency Taking?

Under contract number GS-10F-0127J, MRI of 425 Volker Boulevard, Kansas City, MO, will assist the Office of Pollution Prevention and Toxics (OPPT) in providing technical support for chemical management activities authorized under TSCA on halogenated dibenzodioxins and dibenzofurans (HDDs/HDFs) in commercial products. They will also provide support in the review of analytical protocols; sampling; and quality assurance projects plans, submitted by industries involved in the production, processing, distribution, use, and disposal of chemicals listed in 40 CFR 766.27.

In accordance with 40 CFR 2.306(j), EPA has determined that under EPA contract number GS-10F-0127J, MRI will require access to CBI submitted to EPA under sections 4 and 5 of TSCA, to perform successfully the duties specified under the contract.

MRI personnel was given access to information submitted to EPA under sections 4 and 5 of TSCA. Some of the information may be claimed or determined to be CBI. Access to the confidential data submitted to EPA under sections 4 and 5 of TSCA occurred as a result of an approved waiver dated June 24, 2002. This waiver was necessary to allow MRI to assist OPPT in providing technical support for chemical management activities authorized under TSCA on HDDs/HDFs in commercial products.

EPA is issuing this notice to inform all submitters of information under sections 4 and 5 of TSCA, that the Agency may provide MRI access to these CBI materials on a need-to-know basis only. All access to TSCA CBI under this contract will take place at EPA's Region VII site in Kansas City, MO and MRI's site located at 425 Volker Boulevard, Kansas City, MO. However, access will not occur at MRI's Kansas City, MO facility until after it has been inspected and approved for the storage of TSCA CBI.

MRI will be required to adhere to all provisions of EPA's TSCA Confidential Business Information Security Manual.

Clearance for access to TSCA CBI under this contract may continue until January 14, 2003.

MRI personnel will be required to sign nondisclosure agreements and will be briefed on appropriate security procedures before they are permitted access to TSCA CBI.

List of Subjects

Environmental protection, Confidential business information.

Dated: July 25, 2002.
Allan S. Abramson,
Director, Information Management Division, Office of Pollution Prevention and Toxics.

[FR Doc. 02-20583 Filed 8-13-02; 8:45 am]

BILLING CODE 6560-50-S